DEPARTMENT OF TRANSPORTATION

Federal Railroad Administration

[Docket Number FRA-2024-0115]

Petition for Waiver of Compliance

Under part 211 of title 49 Code of Federal Regulations (CFR), this document provides the public notice that by letters received October 1, 2024, and November 4, 2024, the City of North Salt Lake (the City) petitioned the Federal Railroad Administration (FRA) for a waiver of compliance from certain provisions of the Federal railroad safety regulations contained at 49 CFR part 222 (Use of Locomotive Horns at Public Highway-Rail Grade Crossings). FRA assigned the petition Docket Number FRA-2024-0115.

Specifically, the City requests relief from § 222.35(b)(1), What are the minimum requirements for quiet zones?—Active grade crossing warning devices, which states that each public highway-rail grade crossing in a quiet zone “must be equipped, no later than the quiet zone implementation date, with active grade crossing warning devices comprising both flashing lights and gates which control traffic over the crossing.” The City requests a two-year waiver from the regulation “until the design and construction of the relocated signal mast and gate arm can be completed.”

In support of its request, the City stated that the signal mast and gate arm are currently located before the crossing on an industrial spur, where trains are operated at not more than 10 miles per hour. The crossing currently has signal lights, and the City will add a painted stop bar and sign reading “STOP HERE WHEN FLASHING” to “further improve the safety at the crossing . . . until the design and construction of the gate arm can be completed.” The City further explained that funding for the project has been secured and that granting this relief will allow “reinstatement of the quiet zone while design, approval and construction of the gate arm is completed.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by January 21, 2025 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-26996 Filed 11-19-24; 8:45 am]

BILLING CODE 4910-06-P